DEPARTMENT OF ENERGY

[OE Docket No. PP-310]

Application for Presidential Permit; Northern Electric Cooperative

AGENCY: Office of Electricity Delivery and Energy Reliability, DOE.

ACTION: Notice of application.

SUMMARY: Northern Electric Cooperative (Northern) has applied for a Presidential permit to construct, operate, maintain, and connect an electric transmission line across the U.S. border with Canada.

DATES: Comments, protests, or requests to intervene must be submitted on or before August 17, 2006.

ADDRESSES: Comments, protests, or requests to intervene should be addressed as follows: Office of Electricity Delivery and Energy Reliability (OE-20), U.S. Department of Energy, 1000 Independence Avenue, SW., Washington, DC 20585-0350.

FOR FURTHER INFORMATION CONTACT: Ellen Russell (Program Office), 202-586-9624 or Michael T. Skinker (Program Attorney), 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

By letter dated November 6, 2005, Northern, a member owned electric cooperative organized under the laws of the State of Montana, filed an application with the Office of Electricity Delivery and Energy Reliability (OE) of the Department of Energy (DOE) for a Presidential permit. Northern proposes to construct a 14.4 kilovolt (14.4-kV) distribution circuit, approximately 0.75-mile in length, from a point in Valley County, Minnesota, to the United States border with the Province of Saskatchewan, Canada. North of the border the underground circuit would continue an additional 0.50 mile to a tap into the existing system of SaskPower, a Crown Corporation of Canada. The line would be used to import electric energy into the U.S. to provide electricity to three existing U.S. government-owned water wells and water monitoring stations in Montana. Construction of these international facilities would negate the Northern's need to rebuild 18 miles of deteriorating transmission line that currently serves the water facilities.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission (FERC) Order No. 888 (Promoting Wholesale Competition Through Open Access Non-Discriminatory Transmission Services by Public Utilities; FERC Stats. & Regs. ¶ 31,036 (1996)), as amended. DOE has previously noticed its intention to condition existing and future Presidential permits, appropriate for third party transmission, on compliance with a requirement to provide non-discriminatory open access transmission service. In this docket DOE specifically requests comment on the appropriateness of applying an open access requirement on Northern's proposed facilities.

Procedural Matters: Any person desiring to become a party to this proceeding or to be heard by filing comments or protests to this application should file a petition to intervene, comment, or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Larry Tade, Manager, Northern Electric Cooperative, Inc., Opheim, MT, 59250 and Matthew W. Knierim, Knierim, Fewer & Christoffersen, P.C., 130 Third Street South, P.O. Box 29, Glasgow, MT 59230

Before a Presidential permit may be issued or amended, the DOE must determine that the proposed action will not adversely impact on the reliability of the U.S. electric power supply system. DOE also must obtain the concurrence of the Secretary of State and the Secretary of Defense before taking final action on a Presidential permit application. In addition, DOE must consider the environmental impacts of the proposed action (i.e., granting the Presidential permit, with any conditions and limitations, or denying the permit) pursuant to the National Environmental Policy Act.

Copies of this application will be made available, upon request, for public inspection and copying at the address provided above or by e-mailing Odessa Hopkins at Odessa.hopkins@hq.doe.gov.

Issued in Washington, DC, on July 12, 2006.
Ellen Russell,
Acting Director, Permitting and Siting, Office of Electricity Delivery and Energy Reliability.

[FR Doc. E6-11332 Filed 7-17-06; 8:45 am]

BILLING CODE 6450-01-P